DEPARTMENT OF COMMERCE

National Oceanic and Atmospheric Administration

50 CFR Part 660

[Docket No. 240327-0090; RTID 0648-XE271]

Pacific Halibut Fisheries of the West Coast; 2024 Catch Sharing Plan; Inseason Action

AGENCY: National Marine Fisheries Service (NMFS), National Oceanic and Atmospheric Administration (NOAA), Commerce.

ACTION: Temporary rule; inseason adjustment; request for comments.

SUMMARY: NMFS announces inseason action for the Pacific halibut recreational fishery in the International Pacific Halibut Commission's (IPHC) regulatory Area 2A off Washington, Oregon, and California. Specifically, this action transfers 12,000 pounds (lb; 5.4 metric tons (mt)) of the Area 2A Pacific halibut recreational allocation, in net pounds, from the Oregon recreational fishery to the Washington recreational fishery. This action is intended to provide opportunity for anglers to achieve the total Area 2A recreational fishery allocation.

DATES:

Effective: September 20, 2024, through December 31, 2024.

Comments due date: Comments will be accepted on or before October 7, 2024.

ADDRESSES: Submit your comments, identified by NOAA-NMFS-2024-0014, by either of the following methods:

• Electronic Submission: Submit all electronic public comments via the Federal e-Rulemaking Portal. Go to https://www.regulations.gov and enter NOAA-NMFS-2024-0014 in the Search box. Click on the “Comment” icon, complete the required fields, and enter or attach your comments.

• Mail: Submit written comments to Jennifer Quan, Regional Administrator, c/o Melissa Mandrup, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov/. Background information and documents are available at the NOAA Fisheries website at https://www.fisheries.noaa.gov/action/2024-pacific-halibut-recreational-fishery and at the Pacific Fishery Management Council's website at https://www.pcouncil.org. Other comments received may be accessed through https://www.regulations.gov.

FOR FURTHER INFORMATION CONTACT: Melissa Mandrup, phone: 562-980-3231 or email: melissa.mandrup@noaa.gov.

SUPPLEMENTARY INFORMATION: On April 3, 2024, NMFS published a final rule approving changes to the Pacific halibut Area 2A Catch Sharing Plan (CSP) and implementing recreational (sport) management measures for the 2024 Area 2A recreational fisheries (89 FR 22966), as authorized by the Northern Pacific Halibut Act of 1982 (16 U.S.C. 773-773(k)). The Pacific Fishery Management Council's (Council) 2024 CSP provides a recommended framework for NMFS' annual management measures and subarea allocations based on the 2024 Area 2A Pacific halibut catch limit also known as the fishery constant exploitation yield (FCEY) of 1.47 million lb (666.8 mt) set by the IPHC. The Area 2A catch limit and recreational fishery allocations were adopted by the IPHC and were published in the Federal Register on March 18, 2024 (89 FR 19275), after acceptance by the Secretary of State, with concurrence from the Secretary of Commerce, in accordance with 50 CFR 300.62. The final rule published on April 3, 2024 (89 FR 22966), established 50 CFR 300.63(c)(6)(i)(F), which allows NMFS to transfer portions of state recreation allocations inseason to another state under certain circumstances (e.g., if a state is projected to not utilize its respective recreational allocation by the end of the fishing season and another state could utilize additional pounds to avoid closing a fishing season early).

NMFS has determined that, due to lower than expected landings through September 5, 2024, and projected catches for the remainder of the season off Oregon (October 31), Oregon is projected to not utilize its full recreational allocation by the end of the fishing season. Therefore, inseason action to transfer a portion of the Oregon recreational fishery allocation to another state is warranted at this time to provide additional opportunity for fishery participants to achieve the total Area 2A fishery allocations. As stated above, inseason transfers of a portion of state recreational allocations to another state are authorized by Federal regulations at 50 CFR 300.63(c)(6)(i)(F) and the final rule (89 FR 22966, April 3, 2024).

Catch projections as of September 5, 2024, indicate that Washington is likely to reach their statewide recreational fishery allocation before their season closure date (September 30), and California is projected to stay within their State recreation allocation through their season closure dates (November 15 for the Northern California subarea and December 31 for the South of Point Arena subarea). After consulting with Council staff, the Washington Department of Fish and Wildlife (WDFW), the Oregon Department of Fish and Wildlife (ODFW), and the California Department of Fish and Wildlife, it was determined that inseason action transferring a portion of Oregon's recreational allocation to Washington is necessary in order to allow the Area 2A allocation objectives to be met, by providing anglers additional opportunity to achieve the coastwide recreational allocation, with little risk of that allocation being exceeded. Additionally, this action is necessary to meet the management objectives of the 2024 CSP and is consistent with the inseason management provisions allowing the transfer of portions of a state's recreational allocations to another state. California is, at this time, unlikely to use any additional net pounds in recreational Pacific halibut allocation.

Catch monitoring reports for the recreational fisheries in Washington, Oregon, and California are available on their respective State Fish and Wildlife agency websites. NMFS will continue to monitor recreational catch obtained via state sampling procedures. The recreational fisheries will close on September 30 in Washington, October 31 in Oregon, and November 15 or December 31 in California, or when there is not sufficient allocation for another full day of fishing in each State (or relevant area within California). Should future catch projections indicate that there are additional unused pounds in the Area 2A recreational allocation available to transfer from one state to another, and that there is a need for such a transfer to allow an area to remain open for its full fishing season, then NMFS may take future inseason action to reallocate that unused allocation. Any inseason action, including closures, will be announced in accordance with Federal regulations at 50 CFR 300.63(c) and on the NMFS hotline at (206) 526-6667 or (800) 662-9825.

Pacific Halibut Reallocation

For 2024, the Area 2A Pacific halibut CSP allocated 290,158 lb (131.6 mt) to the Washington recreational fishery, 283,784 lb (128.7 mt) to the Oregon recreational fishery, and 38,220 lb (17.3 mt) to the California recreational fishery. The best available information on September 5, 2024, indicated that the Oregon recreational fishery would not harvest their full allocation by the end of their season (October 31); the Washington recreational fishery is projected to reach their allocation prior to the end of their season (September 30) and would need 12,000 lb (5.4 mt) to remain open until September 30; and the California recreational fishery is projected to stay within their allocation through the end of their respective seasons (November 15 and December 31).

To allow for increased utilization of the resource, with this inseason action, NMFS will transfer 12,000 lb (net weight, [5.4 mt]) of Pacific halibut from the Oregon recreational fishery allocation to the Washington recreational fishery allocation to allow the fishery to remain open through September 30. At this time, NMFS has determined that the California recreational subarea will not receive additional pounds through this action as the fishery is not projected to exceed their allocation before or by the end of their seasons on November 15 and December 31. Reallocating 12,000 lb (5.4 mt) to the Washington recreational fishery is expected to allow for greater attainment of the total Area 2A recreational allocation while not limiting recreational harvest opportunities off Oregon for the remainder of the season. Should future catch projections indicate there are additional pounds available to transfer from one state to another, NMFS may take future inseason action to reallocate that unused allocation.

Classification

NMFS issues this action pursuant to the Northern Pacific Halibut Act of 1982. This action is taken under the regulatory authority at 50 CFR 300.63(c)(6), and is exempt from review under Executive Order 12866.

Pursuant to 5 U.S.C. 553(b)(3)(B), there is good cause to waive prior notice and an opportunity for public comment on this action, as notice and comment would be impracticable and contrary to the public interest. WDFW provided updated landings data to NMFS on September 6, 2024, showing that through September 2, approximately 93 percent of the State fishery allocation has been attained and the fishery is projected to need 12,000 lb (5.4 mt) to remain open through the end of their season (September 30). Also, on September 6, 2024, ODFW provided updated landings data to NMFS, showing that through September 2, approximately 70 percent of the state fishery allocation has been attained and the fishery is projected to end their season (October 31) without fully attaining their state fishery allocation. NMFS uses fishing rates from previous years to project attainment through the end of current fishing seasons. With the lower than expected catch rates in the Oregon recreational fishery, the transfer of a portion of the Oregon State allocation to the Washington State allocation allows for the Area 2A management objectives to be met by providing anglers additional opportunity to achieve the coastwide recreational allocation with little risk of that allocation being exceeded. It is necessary that this rule be implemented in a timely manner both to allow the Washington State fishery access to the additional unused allocation without delay in order to remain open through the end of the season (September 30), and to allow for business and personal decision making by the regulated public impacted by this action, which includes recreational charter fishing operations, associated port businesses, and private anglers who do not live near the coastal access points for this fishery, among others. Without an allocation transfer to the Washington recreational fishery, coastwide allocations in Area 2A are unlikely to be harvested, thus limiting the economic benefits to the fishery participants and obstructing the goals of the 2024 CSP. Additionally, this action does not alter public expectations in that recreational Pacific halibut fishing in Oregon and Washington is projected to continue until the last prescribed fishing date for each State. To ensure the regulated public is fully aware of this action, notice of this regulatory action will be provided to anglers through a telephone hotline, news release, and by the relevant State Fish and Wildlife agencies. NMFS will receive public comments for 15 days after publication of this action, in accordance with 50 CFR 300.63(c)(6)(iv). No aspect of this action is controversial, and changes of this nature were anticipated in the process described in regulations at 50 CFR 300.63(c).

For the reasons discussed above, there is also good cause under 5 U.S.C. 553(d)(3) to waive the 30-day delay in effective date and make this action effective immediately upon filing for public inspection, as a delay in effectiveness of this action would constrain fishing opportunity and be inconsistent with the goals of the CSP, as well as potentially limit the economic opportunity intended by this rule to the associated fishing communities. This inseason action is not expected to result in exceeding the total Area 2A recreational fishery allocation. NMFS regulations allow the Regional Administrator to modify state recreational allocations, including a transfer in recreational allocation from one state to another; provided that the action allows allocation objectives to be met and will not result in exceeding the catch limit for Area 2A. NMFS received information on the progress of landings in the recreational fisheries in Area 2A on September 6, 2024, indicating that modifying the State recreational fishery allocations for Oregon and Washington should be implemented to ensure optimal harvest in the recreational fisheries in Area 2A. As stated above, it is in the public interest that this action is not delayed, because a delay in the effectiveness would obstruct the ability for the allocation objectives of the recreational Pacific halibut fishery to be met.

Authority: 16 U.S.C. 773-773k.

Dated: September 12, 2024.
Karen H. Abrams,
Acting Director, Office of Sustainable Fisheries, National Marine Fisheries Service.

[FR Doc. 2024-21517 Filed 9-17-24; 4:15 pm]

BILLING CODE 3510-22-P